DEPARTMENT OF COMMERCE

National Oceanic and Atmospheric Administration

50 CFR Part 648

[Docket No. 200717-0195]

RIN 0648-BJ16

Magnuson-Stevens Fishery Conservation and Management Act Provisions; Fisheries of the Northeastern United States; Amendment 21 to the Atlantic Mackerel, Squid, and Butterfish Fishery Management Plan; Correction

AGENCY: National Marine Fisheries Service (NMFS), National Oceanic and Atmospheric Administration (NOAA), Commerce.

ACTION: Final rule; correction.

SUMMARY: NMFS is correcting regulations implemented through a final rule that integrates Atlantic chub mackerel as a stock in the fishery under the Atlantic Mackerel, Squid, and Butterfish Fishery Management Plan. This notice corrects regulatory instructions to ensure that regulations are implemented as intended.

DATES: This final rule is effective September 3, 2020.

FOR FURTHER INFORMATION CONTACT: Douglas Christel, Fishery Policy Analyst, (978) 281-9141.

SUPPLEMENTARY INFORMATION: In FR Doc. 2020-15969 appearing on page 47103 in the Federal Register of Tuesday, August 4, 2020, the following correction is made:

§ 648.7 [Corrected]

1. On page 47111, in the second column, in part 648, in amendment 7, the instruction “Amend § 648.7, by revising paragraph (a)(1) introductory text, and paragraphs (b)(1)(i), and (3)(ii) to read as follows:” is corrected to read “Amend § 648.7, by revising paragraph (a)(1) introductory text, paragraph (b)(1)(i) introductory text, and paragraph (3)(ii) to read as follows:”

Dated: August 13, 2020.
Samuel D. Rauch III,
Deputy Assistant Administrator for Regulatory Programs, National Marine Fisheries Service.

[FR Doc. 2020-18032 Filed 8-17-20; 8:45 am]

BILLING CODE 3510-22-P